DEPARTMENT OF COMMERCE

National Oceanic and Atmospheric Administration

Agency Information Collection Activities; Submission to the Office of Management and Budget (OMB) for Review and Approval; Comment Request; Socio-Economic Survey of Hired Captains and Crew in New England, Mid-Atlantic, South Atlantic and Gulf of Mexico Commercial Fisheries

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on January 25, 2021, (86 FR 6877) during a 60-day comment period. This notice allows for an additional 30 days for public comments.

Agency: National Oceanic and Atmospheric Administration (NOAA), Commerce.

Title: Socio-Economic Survey of Hired Captains and Crew in New England, Mid-Atlantic, South Atlantic and Gulf of Mexico Commercial Fisheries.

OMB Control Number: 0648-0636.

Form Number(s): None.

Type of Request: Regular submission (revision of a currently approved collection).

Number of Respondents: 937.

Average Hours per Response: 20 minutes.

Total Annual Burden Hours: 83.

Needs and Uses: This is a request for revision and extension of an approved information collection.

The revision (1) expands the geographic scope from New England and the Mid-Atlantic only to include New England, Mid-Atlantic, South Atlantic and Gulf of Mexico commercial fisheries, (2) revises the title of the collection from Socio-Economic Survey of Hired Captains and Crew in New England and Mid-Atlantic Commercial Fisheries to Socio-Economic Survey of Hired Captains and Crew in New England, Mid-Atlantic, South Atlantic and Gulf of Mexico Commercial Fisheries, and (3) makes minor revisions to the survey form to address regional differences in fisheries.

The NEFSC and SEFSC seek to conduct surveys to provide for the ongoing collection of social and economic data related to the fishing industries in those states. The purpose of this survey is to assess and track over time the social and economic conditions of commercial fishing crews and hired captains for which little is known. This survey will provide data on social and economic impacts for this population and the changes in fisheries as a result of regulatory changes. Data to be collected include demographic information on crew, wage calculations systems, individual and community well-being, fishing practices, job satisfaction, job opportunities, and attitudes toward fisheries management. The National Environmental Policy Act (NEPA) and Magnuson-Stevens Conservation and Management Act (MSA) both contain requirements for considering the social and economic impacts of fishery management decisions. There is a need to understand how such fishery management policies and programs will affect the social and economic characteristics of those involved in the commercial fishing industry. To help meet these requirements of NEPA and MSA, the NEFSC and SEFSC will collect data on an ongoing basis to track how socio-economic characteristics of fisheries are changing over time and the impact of fishery management policies and programs implemented in New England, Mid-Atlantic, South Atlantic and Gulf of Mexico regions.

Affected Public: Individuals or households and Business or other for-profit organizations;

Frequency: Every 3 to 5 years.

Respondent's Obligation: Voluntary.

Legal Authority: Magnuson-Stevens Fishery Conservation and Management Act.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0636.

Sheleen Dumas,
Department PRA Clearance Officer, Office of the Chief Information Officer, Commerce Department.

[FR Doc. 2021-15164 Filed 7-15-21; 8:45 am]

BILLING CODE 3510-22-P